DEPARTMENT OF ENERGY

Federal Energy Regulatory Commission

Combined Notice of Filings #1

February 19, 2010.

Take notice that the Commission received the following electric rate filings:

Docket Numbers: ER02-1633-007; ER04-1099-007; ER03-25-006; ER00-38-010; ER00-1115-011; ER00-3562-012; ER06-755-006; ER04-831-008; ER02-1367-007; ER03-446-008; ER03-342-008; ER03-341-007; ER06-749-006; ER03-209-008; ER05-819-006; ER05-820-006; ER06-751-007; ER02-1959-008; ER06-753-005; ER02-2227-010; ER06-441-005; ER02-600-011; ER99-1983-009; ER01-2688-013; ER02-2229-009; ER09-1084-003; ER06-741-006; ER03-24-009; ER06-756-006; ER04-1221-006; ER05-67-006; ER01-480-009; ER06-750-006; ER06-742-006; ER09-71-003; ER05-68-006; ER04-1081-006; ER06-752-006; ER03-838-009; ER03-49-008; ER99-970-010; ER03-1288-006; ER07-1335-006; ER01-2887-010; ER04-1100-007; ER02-1319-009

Applicants: Calpine Energy Services, L.P., CARVILLE ENERGY LLC, Columbia Energy LLC, Bethpage Energy Center 3, LLC, TBG COGEN PARTNERS, Santa Rosa Energy Center, LLC, Blue Spruce Energy Center, LLC, South Point Energy Center, LLC, Delta Energy Center, LLC, Calpine Construction Finance Company, LP, Calpine Newark, LLC, Calpine Philadelphia, Inc, KIAC PARTNERS,NISSEQUOGUE COGEN PARTNERS, Geysers Power Company, LLC, Otay Mesa Energy Center, LLC, Calpine Power America—CA, LLC, Calpine Power America—OR, LLC,CES Marketing IX, LLC,CES Marketing V, L.P.,CES Marketing X, LLC, PCF2, LLC, Mankato Energy Center, LLC, Riverside Energy Center, LLC, RockGen Energy, LLC, Auburndale Peaker Energy Center, L.L.C., Zion Energy LLC, Rocky Mountain Energy Center, LLC, Pine Bluff Energy, LLC, Pastoria Energy Center, LLC, Morgan Energy Center, LLC, MOBILE ENERGY LLC, Metcalf Energy Center, LLC, Los Medanos Energy Center LLC, Los Esteros Critical Energy Facility LLC, Hermiston Power, LLC, Goose Haven Energy Center, LLC, Gilroy Energy Center, LLC, Decatur Energy Center, LLC, Creed Energy Center, LLC,CPN Pryor Funding Corporation, Calpine Oneta Power, LP, Calpine Gilroy Cogen, L.P., BROAD RIVER ENERGY LLC, Power Contract Financing, L.L.C., CPN BETHPAGE 3RD TURBINE, INC

Description: Supplement to Clarify October 30, 2009 Quarterly Report Pursuant to 18 CFR 35.42(d) on behalf of Auburndale Peaker Energy Center, L.L.C., et al.

Filed Date: 02/16/2010.

Accession Number: 20100216-5230.

Comment Date: 5 p.m. Eastern Time on Tuesday, March 9, 2010

Docket Numbers: ER02-1633-006; ER04-1099-006; ER03-25-005; ER00-38-009; ER00-1115-009, ER00-3562-010; ER06-755-004; ER04-831-007; ER02-1367-006; ER03-446-007; ER03-342-006; ER03-341-006; ER06-749-005; ER03-209-007; ER05-819-005; ER05-820-005; ER06-751-006; ER02-1959-007; ER06-753-004; ER02-2227-008; ER06-441-004; ER02-600-009; ER99-1983-007; ER01-2688-011; ER02-2229-007; ER09-1084-002; ER06-741-005; ER03-24-007; ER06-756-004; ER04-1221-005; ER05-67-004; ER01-480-008; ER06-750-005; ER06-742-005; ER09-71-001; ER05-68-004; ER04-1081-005; ER06-752-005; ER03-838-007; ER03-49-007; ER99-970-009; ER03-1288-005; ER07-1335-005; ER01-2887-008; ER04-1100-006; ER02-1319-008

Applicants: Calpine Energy Services, L.P.,CARVILLE ENERGY LLC, Columbia Energy LLC, Bethpage Energy Center 3, LLC, Santa Rosa Energy Center, LLC, Blue Spruce Energy Center, LLC, South Point Energy Center, LLC, Delta Energy Center, LLC, Calpine Construction Finance Company, LP, Calpine Newark, LLC, Calpine Philadelphia, Inc, KIAC PARTNERS, NISSEQUOGUE COGEN PARTNERS, Geysers Power Company, LLC, Otay Mesa Energy Center, LLC, Calpine Power America—CA, LLC, Calpine Power America—OR, LLC, CES Marketing IX, LLC, CES Marketing V, L.P., CES Marketing X, LLC, PCF2, LLC, POWER CONTRACT FINANCING, LLC, Mankato Energy Center, LLC, Riverside Energy Center, LLC, Auburndale Peaker Energy Center, L.L.C., TBG COGEN PARTNERS, Zion Energy LLC, Rocky Mountain Energy Center, LLC, ROCKGEN ENERGY LLC, Pine Bluff Energy, LLC, Pastoria Energy Center, LLC, Morgan Energy Center, LLC, MOBILE ENERGY LLC, Metcalf Energy Center, LLC, Los Medanos Energy Center LLC, Los Esteros Critical Energy Facility LLC, Hermiston Power, LLC, Goose Haven Energy Center, LLC, Gilroy Energy Center, LLC, Decatur Energy Center, LLC, Creed Energy Center, LLC, CPN Pryor Funding Corporation, CPN Bethpage 3rd Turbine Inc., Calpine Oneta Power, LP, Calpine Gilroy Cogen, L.P., BROAD RIVER ENERGY LLC

Description: Supplement to Clarify July 30, 2009 Quarterly Report Pursuant to 18 CFR 35.42(d) of Auburndale Peaker Energy Center, L.L.C., et al.

Filed Date: 02/16/2010.

Accession Number: 20100216-5214.

Comment Date: 5 p.m. Eastern Time on Tuesday, March 9, 2010.

Docket Numbers: ER08-313-006; ER08-923-005; ER08-1307-004; ER08-1308-006; ER08-1357-004; ER08-1358-004; ER08-1359-004.

Applicants: Xcel Energy Services Inc.

Description: Compliance Refund Report of Xcel Energy Services Inc.

Filed Date: 02/18/2010.

Accession Number: 20100218-5083.

Comment Date: 5 p.m. Eastern Time on Thursday, March 11, 2010.

Docket Numbers: ER10-253-000; EL10-14-000.

Applicants: Primary Power, LLC.

Description: Primary Power, LLC submits response to the 1/7/10 letter issued re Request for Information.

Filed Date: 02/12/2010.

Accession Number: 20100216-0056.

Comment Date: 5 p.m. Eastern Time on Friday, March 5, 2010.

Docket Numbers: ER10-382-001.

Applicants: Florida Power Corporation.

Description: Florida Power Corporation submits an amendment to the 12/2/09 filing of an agreement with Seminole Electric Coop. Inc, which was designated Rate Schedule 211 etc.

Filed Date: 02/17/2010.

Accession Number: 20100217-0237.

Comment Date: 5 p.m. Eastern Time on Monday, March 1, 2010.

Docket Numbers: ER10-715-000; ER10-715-002.

Applicants: Llano Estacado Wind, LLC.

Description: On 1/28/2010 Llano Estacado Wind LLC submits a notice of succession and on 2/18/2010 submits updated market based rate tariff to reflect its conversion from a limited partnership to a limited liability company effective as of 12/31/09.

Filed Date: 01/28/2010, 2/18/2010.

Accession Number: 20100203-0214; 20100219-0202.

Comment Date: 5 p.m. Eastern Time on Thursday, March 11, 2010.

Docket Numbers: ER10-717-000.

Applicants: Westar Energy, Inc.

Description: Westar Energy, Inc. submits First Revised Sheets 23 et al. to Rate Schedule 326 et al.

Filed Date: 02/03/2010.

Accession Number: 20100204-0211.

Comment Date: 5 p.m. Eastern Time on Wednesday, February 24, 2010.

Docket Numbers: ER10-726-000.

Applicants: DPL Energy Resources, Inc.

Description: DPL Energy Resources, Inc. submits an application for market based rate authorization and request for waivers and blanket approvals.

Filed Date: 02/18/2010.

Accession Number: 20100219-0213.

Comment Date: 5 p.m. Eastern Time on Thursday, March 11, 2010.

Docket Numbers: ER10-728-000.

Applicants: Viridian Energy NJ LLC.

Description: Viridian Energy NJ LLC submits the petition for Acceptance of Initial Tariff, Waivers and Blanket Authority.

Filed Date: 02/17/2010.

Accession Number: 20100218-0204.

Comment Date: 5 p.m. Eastern Time on Wednesday, March 10, 2010.

Docket Numbers: ER10-735-000.

Applicants: S.J. Energy Partners, Inc.

Description: S.J. Energy Partners, Inc. Petition for Acceptance of Initial Tariff, Waivers and Blanket Authorization, Rate Schedule FERC 1, to be effective 4/20/10.

Filed Date: 02/18/2010.

Accession Number: 20100219-0212.

Comment Date: 5 p.m. Eastern Time on Thursday, March 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. 2010-4147 Filed 2-26-10; 8:45 am]

BILLING CODE 6717-01-P